DEPARTMENT OF VETERANS AFFAIRS

Advisory Committee Charter Renewals

AGENCY: Department of Veterans Affairs.

ACTION: Notice of advisory committee charter renewals.

SUMMARY: In accordance with the provisions of the Federal Advisory Committee Act (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below.

FOR FURTHER INFORMATION CONTACT: Jeffrey Moragne, Committee Management Officer, Department of Veterans Affairs, Advisory Committee Management Office (00AC), 810 Vermont Avenue NW, Washington, DC 20420; telephone (202) 714-1578; or email at Jeffrey.Moragne@va.gov. To view a copy of a VA Federal advisory committee charters, please visit http://www.va.gov/advisory.

SUPPLEMENTARY INFORMATION:

Committee name | Committee description | Charter renewed on
VA National Academic Affiliations Council | Provides advice on matters affecting partnerships between VA and its academic affiliates | December 6, 2023.
Cooperative Studies Scientific Evaluation Committee | Provides advice on VA cooperative studies, multi-site clinical research activities, and policies related to conducting and managing these efforts and ensures that new and ongoing projects maintain high quality, are based upon scientific merit, mission relevance, and quality and are conducted efficiently, safely, and economically conducted | April 11, 2024.
Health Systems Research | Provides advice on the fair and equitable selection of the most meritorious research projects for support by VA research funds and to offer advice for research program officials on program priorities and policies; ensures the high quality and mission relevance of VA's legislatively mandated research and development program; and advises on the scientific and technical merit, the mission relevance and the protection of human and animal subjects proposals | April 11, 2024.
Joint Biomedical Laboratory Research and Development and Clinical Science Research and Development Services Scientific Merit Review Board | Provides advice on the scientific quality, budget, safety and mission relevance of investigator-initiated research proposals submitted for VA merit review consideration and to offer advice for research program officials on program priorities and policies. The applications to be reviewed may address research questions within the general area of biomedical and behavioral research or clinical science research. The Board does not consider grants, contracts or other forms of extramural research | April 11, 2024.
Rehabilitation Research and Development Service Scientific Merit Review Board | Provides advice on the fair and equitable selection of the most meritorious research projects for support by VA research funds; provides advice for research program officials on program priorities and policies; and ensures that the VA Rehabilitation Research and Development program promotes functional independence and improves the quality of life for impaired and disabled Veterans | April 11, 2024

The Secretary has also renewed the charter for the following statutorily authorized Federal advisory committee for a two-year period, beginning on the date listed below:

Committee name | Committee description | Charter renewed on
Advisory Committee on Minority Veterans | Provides advice on the administration of VA benefits for Veterans who are minority group members, by reviewing reports and studies on compensation, health care, rehabilitation, outreach, and other benefits and services administered by the Department | February 11, 2024.
Veterans' Rural Health Advisory Committee | Provides advice on health care issues that affect Veterans residing in rural areas | March 21, 2024.
Advisory Committee on Homeless Veterans | Provides advice on benefits and services to Veterans experiencing homelessness | April 10, 2024.
Advisory Committee on Former Prisoners of War | Provides advice on the administration of benefits for Veterans who are former prisoners of war and the needs of these Veterans, in the areas compensation, health care and rehabilitation | April 22, 2024.
Advisory Committee on Prosthetics and Special Disabilities Programs | Provides advice on administration of VA prosthetics and special-disabilities programs; coordination of VA and non-VA programs to develop and test prosthetic devices; and coordination of the informational exchange regarding development and testing of prosthetic devices | May 9, 2024.

Dated: May 15, 2024.
Jelessa M. Burney,
Federal Advisory Committee Management Officer.

[FR Doc. 2024-11004 Filed 5-17-24; 8:45 am]

BILLING CODE P